DEPARTMENT OF COMMERCE

National Oceanic and Atmospheric Administration

[I.D. 083105B]

Endangered Species; File No. 1377

AGENCY: National Marine Fisheries Service (NMFS), National Oceanic and Atmospheric Administration (NOAA), Commerce.

ACTION: Notice; issuance of permit modification.

SUMMARY: Notice is hereby given that Dr. Anton Tucker, Mote Marine Laboratory, 1600 Ken Thompson Parkway, Sarasota, FL 34236, has been issued a modification to scientific research Permit No. 1377.

ADDRESSES: The modification and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Carrie Hubard or Patrick Opay, (301)713-2289.

SUPPLEMENTARY INFORMATION: On January 14, 2004, notice was published in the Federal Register (69 FR 3568) that a modification of Permit No. 1377, issued December 4, 2002 (67 FR 76727), had been requested by the above-named organization. The requested modification has been granted under the authority of the Endangered Species Act of 1973, as amended (ESA; 16 U.S.C. 1531 et seq.) and the regulations governing the taking, importing, and exporting of endangered and threatened species (50 CFR 222-226).

Modification No. 1 to Permit No. 1377 will allow the holder to expand the study area to include the Florida Keys and Sarasota Bay, and allow the capture, flipper and PIT tagging, and collection of blood and tissue samples from an additional 150 juvenile and subadult green (Chelonia mydas), 150 juvenile and sub-adult Kemp's ridley (Lepidochelys kempii), 100 juvenile and sub-adult loggerhead (Caretta caretta), and 5 juvenile and sub-adult hawksbill (Eretmochelys imbricata) sea turtles. The holder will perform additional sampling techniques for all captured turtles including scute scraping for heavy metal analysis, bioelectrical impedance analysis to determine fat content, and laparoscopic surgery to determine sex and reproductive status. Gastric lavage will be conducted on green sea turtles to obtain dietary samples. The permit holder will utilize additional telemetry instruments and attachment methods, including radio tags, sonic tags, time depth recorders, animal-borne video, audio and environmental data collection systems (AVEDS), and receiver tags (e.g., bioacoustic probe). Instruments will be attached to a subset of turtles in Charlotte Harbor or Sarasota Bay, and a subset of turtles in the Florida Keys. The amended permit expires December 31, 2007.

Issuance of this modification, as required by the ESA was based on a finding that such permit (1) was applied for in good faith, (2) will not operate to the disadvantage of any endangered or threatened species, and (3) is consistent with the purposes and policies set forth in section 2 of the ESA.

Dated: October 6, 2005.
Stephen L. Leathery,
Chief, Permits, Conservation and Education Division, Office of Protected Resources, National Marine Fisheries Service.

[FR Doc. 05-20452 Filed 10-11-05; 8:45 am]

BILLING CODE 3510-22-S